DEPARTMENT OF HEALTH AND HUMAN SERVICES

Centers for Disease Control and Prevention

[60Day-04-27]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project: Health Alert Network—National Survey of Public Health Agencies—New—Public Health Practice Program Office (PHPPO), Centers for Disease Control and Prevention (CDC).

The National Survey of Public Health Agencies is a proposed assessment designed to collect data to address CDC objectives in several areas. The major area is the Health Alert Network, focus area E, Communications and Information Technology. This area of the Health Alert Network ensures effective communication connectivity among public health departments, healthcare organizations, law enforcement organizations, public officials and others. The second area is the Office of Management and Budget (OMB) Program Assessment Rating Tool (PART), which requires CDC to evaluate its program achievements toward long-term health outcome goals, relative to current funding levels. The third area is the Government Performance and Results Act (GPRA), Public Law 103-62 which requires CDC to expand and enhance the Health Alert Network's ability to rapidly provide access to public health guidelines, best practices, and information on the effectiveness of public health interventions.

The overall goal of objectives is to ensure that Federal, State, and local health agencies have the infrastructure to ensure effective communication among public health departments, healthcare organizations, law enforcement organizations, public officials and others who provide essential public health services effectively. This is an on-going annual survey. There is no cost to respondents.

Respondents | Number of respondents | Number of responses/respondent | Average burden/response (in hrs.) | Total burden (in hrs.)
State/Territorial Health Agencies | 62 | 1 | 60 | 3,720
Total |  |  |  | 3,720

Dated: February 6, 2004.
Alvin Hall,
Director, Management Analysis and Services Office, Centers for Disease Control and Prevention.

[FR Doc. 04-3197 Filed 2-12-04; 8:45 am]

BILLING CODE 4163-18-P